DEPARTMENT OF HEALTH AND HUMAN SERVICES

National Institutes of Health

Center for Scientific Review; Amended Notice of Meeting

Notice is hereby given of a change in the meeting of the Musculoskeletal, Oral and Skin Sciences Integrated Review Group, Skeletal Muscle and Exercise Physiology Study Section, June 11, 2020, 08:00 a.m. to June 12, 2020, 07:00 p.m., National Institutes of Health, Rockledge II, 6701 Rockledge Drive, Bethesda, MD 20892 which was published in the Federal Register on May 12, 2020, 85 FR 28022.

This notice is being amended to change the meeting time from 08:00 a.m. to 07:00 p.m. to 09:00 a.m. to 02:00 p.m. The meeting is closed to the public.

Dated: June 8, 2020.
Tyeshia M. Roberson,
Program Analyst, Office of Federal Advisory Committee Policy.

[FR Doc. 2020-12674 Filed 6-11-20; 8:45 am]

BILLING CODE 4140-01-P